DEPARTMENT OF AGRICULTURE

Forest Service

Meeting

AGENCY: Notice of Resource Advisory Committee, Sundance, Wyoming, USDA, Forest Service.

ACTION: Notice of meeting.

SUMMARY: Pursuant to the authorities in the Federal Advisory Committee Act (Pub. L. 92-463) and under the Secure Rural Schools and Community Self-Determination Act of 2000 (Pub. L. 106-393) the Black Hills National Forests' Crook County Resource Advisory Committee will meet Tuesday, January 20th, in Sundance, Wyoming for a business meeting. The meeting is open to the public.

SUPPLEMENTARY INFORMATION: The business meeting on January 20, begins at 6:30 p.m., at the U.S. Forest Service, Bearlodge Ranger District office, 121 South 21st Street, Sundance, Wyoming. Agenda topics will include: Updates on previously funded projects and a review of proposals still needing action. A public forum will begin at 8:30 p.m. (m.t.).

FOR FURTHER INFORMATION CONTACT: Steve Kozel, Bearlodge District Ranger and Designated Federal Officer, at (307) 283-1361.

Dated: December 17, 2003.
Scott Tangenberg,
Bearlodge District Ranger.

[FR Doc. 04-246 Filed 1-5-04; 8:45 am]

BILLING CODE 3410-11-M